DEPARTMENT OF DEFENSE

Department of the Army

Availability for Non-Exclusive, Exclusive, or Partially Exclusive Licensing of U.S. Patent Application Concerning Angiogenesis Inhibitors Specific for Methionine Aminopeptidase 2 as Antiparasitic Drugs

AGENCY: Department of the Army, DoD.

ACTION: Notice.

SUMMARY: In accordance with 37 CFR 404.6, announcement is made of the availability for licensing of U.S. Patent Application Serial No. 60/354,280 entitled “Angiogenesis Inhibitors Specific for Methionine Aminopeptidase 2 as Antiparasitic Drugs” and, filed January 29, 2002. The United States Government as represented by the Secretary of the Army has rights in this invention.

ADDRESSES: Commander, U.S. Army Medical Research and Material Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: Methionine aminopeptidase 2 (MetAP2) is responsible for hydrolysis of the initiator, methionine residues from the majority of newly synthesized proteins. A malaril MetAP2 gene has been cloned from Plasmodium falciparum (GenBank accession number AF34820). The cloned P. falciparum MetAP2 (PfMetAP2) has a length of 1544 bp and encoded a protein of 354 amino acid residues. A multiple sequence alignment shows that the P. falciparum MetAP2 has 40% homology with human MetAP2 and 45% homology with yeast MetAP2. The gene of P. falciparum MetAP2 locates in chromosome 14. The 3D structure of P. falciparum MetAP2 has been modeled based on human MetAP2 crystal structure. The specific MetAP2 inhibitors, fumagillin and TNP-440 have been found to potently block the in vitro growth of P. falciparum and to a lesser degree against that of Leishmania donavani.

Luz D. Ortiz,
Army Federal Resister Liaison Officer.

[FR Doc. 02-8678 Filed 4-9-02; 8:45 am]

BILLING CODE 3710-08-M